DEPARTMENT OF COMMERCE

Foreign-Trade Zones Board

[Docket 47-2000]

Foreign-Trade Zone 104—Chatham County, Georgia; Application for Expansion Amendment of Application

Notice is hereby given that the application of the Savannah Airport Commission, grantee of FTZ 104, requesting authority to expand its zone in Chatham County, Georgia (Doc. 47-2000, 65 FR 50178, 8/17/00), has been amended to remove 1,057 acres from the FTZ expansion request. Proposed Site 6 at Mulberry Grove will be reduced from 2,239 acres to 1,182 acres.

In addition, this notice will serve to clarify the size of Proposed Site 5 at the Savannah International Trade and Convention Center. As stated in the original notice, the proposed site would consist of 94 acres. However, the applicant is requesting FTZ status for only a 24-acre parcel within the 94-acre site. The application otherwise remains unchanged.

The comment period is reopened until May 31, 2001. Submissions (original and 3 copies) shall be addressed to the Board's Executive Secretary at the address below.

A copy of the application and the amendment and accompanying exhibits are available for public inspection at the following locations:

U.S. Department of Commerce, Export Assistance Center, 6001 Chatham Center Drive, Suite 100, Savannah, GA 31405.

Office of the Executive Secretary, Foreign-Trade Zones Board, Room 4008, U.S. Department of Commerce, 14th & Pennsylvania Avenue, NW., Washington, DC 20230.

Dated: April 25, 2001.
Dennis Puccinelli,
Executive Secretary.

[FR Doc. 01-10861 Filed 4-30-01; 8:45 am]

BILLING CODE 3510-DS-P